DEPARTMENT OF HOMELAND SECURITY

Coast Guard

[USCG-2009-0362]

Information Collection Request to Office of Management and Budget; OMB Control Numbers: 1625-0014, 1625-0038, and 1625-0069

AGENCY: Coast Guard, DHS.

ACTION: 60-day notice requesting comments.

SUMMARY: In compliance with the Paperwork Reduction Act of 1995, the U.S. Coast Guard intends to submit three Information Collection Requests (ICRs) and Analyses to the Office of Management and Budget (OMB) requesting an extension of its approval for the following collections of information: (1) 1625-0014, Request for Designation and Exemption of Oceanographic Research Vessels; (2) 1625-0038, Plan Approval and Records for Tank, Passenger, Cargo and Miscellaneous Vessels, Mobile Offshore Drilling Units, Nautical School Vessels and Oceanographic Research Vessels—46 CFR Subchapters D, H, I, I-A, R and U; and (3) 1625-0069, Ballast Water Management for Vessels with Ballast Tanks Entering U.S. Waters. Before submitting these ICRs to OMB, the Coast Guard is inviting comments as described below.

DATES: Comments must reach the Coast Guard on or before August 3, 2009.

ADDRESSES: To avoid duplicate submissions to the docket [USCG-2009-0362], please use only one of the following means:

(1) Online: http://www.regulations.gov.

(2) Mail: Docket Management Facility (DMF) (M-30), U.S. Department of Transportation (DOT), West Building Ground Floor, Room W12-140, 1200 New Jersey Avenue, SE., Washington, DC 20590-0001.

(3) Hand Deliver: Same as mail address above, between 9 a.m. and 5 p.m., Monday through Friday, except Federal holidays. The telephone number is 202-366-9329.

(4) Fax: 202-493-2251.

The DMF maintains the public docket for this Notice. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

Copies of the ICRs are available through the docket on the Internet at http://www.regulations.gov. Additionally, copies are available from Commandant (CG-611), U.S. Coast Guard Headquarters, (Attn: Mr. Arthur Requina), 2100 2nd Street SW., Washington, DC 20593-0001. The telephone number is 202-475-3523.

FOR FURTHER INFORMATION: Contact Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

The Coast Guard invites comments on whether these ICRs should be granted based on the collections being necessary for the proper performance of Departmental functions. In particular, the Coast Guard would appreciate comments addressing: (1) The practical utility of the collections; (2) the accuracy of the estimated burden of the collections; (3) ways to enhance the quality, utility, and clarity of information subject to the collections; and (4) ways to minimize the burden of the collections on respondents, including the use of automated collection techniques or other forms of information technology.

We encourage you to respond to this request by submitting comments and related materials. We will post all comments received, without change, to http://www.regulations.gov. They will include any personal information you provide. We have an agreement with DOT to use their DMF. Please see the “Privacy Act” paragraph below.

Submitting Comments: If you submit a comment, please include the docket number [USCG-2009-0362], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period and will address accordingly.

Viewing comments and documents: Go to http://www.regulations.gov to view documents mentioned in this Notice as being available in the docket. Enter the docket number for this Notice [USCG-2009-0362] in the Search box, and click “Go >>.” You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act statement regarding our public dockets in the January 17, 2008 issue of the Federal Register (73 FR 3316).

Information Collection Request

1. Title: Request for Designation and Exemption of Oceanographic Research Vessels.

OMB Control Number: 1625-0014.

Summary: This collection requires submission of specific information about a vessel in order to be designated as an Oceanographic Research Vessel (ORV).

Need: Title 46 U.S.C. 2113 authorizes the Secretary of the Department of Homeland Security to exempt ORVs, by regulation, from provisions of Title 46—Shipping, Subtitle II—Vessels and Seamen, concerning maritime safety and seaman's welfare laws. This information is necessary to ensure a vessel qualifies for the designation of ORV under 46 CFR Part 3; Part 14, Subpart D.

Forms: None.

Respondents: Owners or operators of certain vessels.

Frequency: On occasion.

Burden Estimate: The estimated burden has decreased from 51 hours to 35 hours a year.

2. Title: Plan Approval and Records for Tank Vessels, Passenger Vessels, Cargo and Miscellaneous Vessels, Mobile Offshore Drilling Units, Nautical School Vessels and Oceanographic Research Vessels—46 CFR Subchapters D, H, I, I-A, R and U.

OMB Control Number: 1625-0038.

Summary: This collection requires the shipyard, designer or manufacturer for the construction of a vessel to submit plans, technical information and operating manuals to the Coast Guard.

Need: Under 46 U.S.C. 3301 and 3306, the Coast Guard is responsible for enforcing regulations promoting the safety of life and property in marine transportation. Information is used to ensure a vessel meets the applicable standards for construction, arrangement, and equipment under 46 CFR Subchapters D, H, I, I-A, R and U.

Forms: None.

Respondents: Shipyards, designers, and manufacturers of certain vessels.

Frequency: On occasion.

Burden Estimate: The estimated burden has decreased from 13,790 hours to 2,970 hours a year.

3. Title: Ballast Water Management for Vessels with Ballast Tanks Entering U.S. Waters.

OMB Control Number: 1625-0069.

Summary: This collection requires the master of a vessel to provide information detailing the vessel operator's ballast water management efforts.

Need: The information is needed to ensure compliance with 16 U.S.C. 4711 and the requirements in 33 CFR part 151, subparts C and D regarding the management of ballast water, to prevent the introduction and spread of aquatic nuisance species into U.S. waters. The information is also used for research and periodic reporting to Congress.

Forms: CG-5662.

Respondents: Owners and operators of certain vessels.

Frequency: On occasion.

Burden Estimate: The estimated burden has decreased from 60,769 hours to 60,727 hours a year.

Dated: May 28, 2009.
M.B. Lytle,
Captain, U.S. Coast Guard, Acting Assistant Commandant for Command, Control, Communications, Computers and Information Technology.

[FR Doc. E9-12978 Filed 6-3-09; 8:45 am]

BILLING CODE 4910-15-P